DEPARTMENT OF COMMERCE

National Oceanic and Atmospheric Administration

Call for Applications for Native Hawaiian Representative to the Coral Reef Ecosystem Reserve Council for the Northwestern Hawaiian Islands Coral Reef Ecosystem Reserve

AGENCY: Office of National Marine Sanctuaries (ONMS), National Ocean Service (NOS), National Oceanic and Atmospheric Administration, Department of Commerce (DOC).

ACTION: Notice and request for applications.

SUMMARY: On December 4, 2000, Executive Order 13178 established the Northwestern Hawaiian Islands Coral Reef Ecosystem Reserve (Reserve). The Executive Order requires the Secretary of Commerce or his or her designee (hereafter Secretary) to establish a Coral Reef Ecosystem Reserve Council (Reserve Council) to provide advice and recommendations on the development of the Reserve Operations Plan and the designation and management of a Northwestern Hawaiian Islands National Marine Sanctuary by the Secretary. The Secretary, through the Office of National Marine Sanctuaries (ONMS), established the Reserve Council and is now seeking applicants for one Native Hawaiian representative seat on the Reserve Council. Previous applicants and current Alternate Council Representatives interested in serving as a full Council member must reapply specifically for this seat in order to be considered in the competitive pool.

DATES: Completed applications must be received by July 16, 2000.

ADDRESSES: Application kits may be obtained from Robert Smith or ‘Aulani Wilhelm, Northwest Hawaiian Islands Coral Reef Ecosystem Reserve, National Ocean Service, P.O. Box 43, Hawaii National Park, Hawaii 96718-0043, or online at: http://hawaiireef.noaa.gov.

Completed applications should be sent to the same address as above.

FOR FURTHER INFORMATION CONTACT: ‘Aulani Wilhelm at (808) 295-1234, or aulani.wilhelm@noaa.gov, or visit the web site at: http://hawaiireef.noaa.gov.

SUPPLEMENTARY INFORMATION: On December 4, 2000, Executive Order 13178 established the Northwestern Hawaiian Islands Coral Reef Ecosystem Reserve, pursuant to language contained in the National Marine Sanctuaries Amendments Act of 2000. The Reserve encompasses an area of the marine waters and submerged lands of the Northwestern Hawaiian Islands, extending approximately 1200 nautical miles long and 100 nautical miles wide. The Reserve is adjacent to and seaward of the seaward boundary of Hawaii State waters and submerged lands and the Midway Atoll National Wildlife Refuge, and includes the Hawaiian Islands National Wildlife Refuge to the extent it extends beyond Hawaii State waters and submerged lands. The Reserve will be managed by the Secretary of Commerce pursuant to the National Marine Sanctuaries Act and the Executive Order. The Secretary has also initiated the process to designate the Reserve as a National Marine Sanctuary. The management principles and implementation strategy and requirements for the Reserve are found in the Executive Order, which is part of the application kit and can be found on the web site listed above.

In designating the Reserve, the Secretary of Commerce was directed to establish a Coral Reef Ecosystem Reserve Council, pursuant to section 315 of the National Marine Sanctuaries Act, to provide advice and recommendations on the development of the Reserve Operations Plan and the designation and management of a Northwestern Hawaiian Islands National Marine Sanctuary by the Secretary. The ONMS has established the Reserve Council and is now accepting applications from interested individuals to fill one vacant Native Hawaiian representative position on the Council. The Council is comprised of:

1. Three Native Hawaiian representatives, including one Native Hawaiian elder, with experience or knowledge regarding Native Hawaiian subsistence, cultural, religious, or other activities in the Northwestern Hawaiian Islands.

2. Three representatives from the non-Federal science community with experience specific to the Northwestern Hawaiian Islands and with expertise in at least one of the following areas:

A. Marine mammal science.

B. Coral reef ecology.

C. Native marine flora and fauna of the Hawaiian Islands.

D. Oceanography.

E. Any other scientific discipline the Secretary determines to be appropriate.

3. Three representatives from non-governmental wildlife/marine life, environmental, and/or conservation organizations.

4. One representative from the commercial fishing industry that conducts activities in the Northwestern Hawaiian Islands.

5. One representative from the recreational fishing industry that conducts activities in the Northwestern Hawaiian Islands.

6. One representative from the ocean-related tourism industry.

7. One representative from the non-Federal community with experience in education and outreach regarding marine conversation issues.

8. One citizen-at-large representative.

The Reserve Council also includes one representative from the State of Hawaii (and an alternate as appropriate) as appointed by the Governor; the manager of the Hawaiian Islands Humpback Whale National Marine Sanctuary as a non-voting member; and one representative each, as non-voting members, from the Department of the Interior, Department of State, National Marine Fisheries Service, Marine Mammal Commission, U.S. Coast Guard, Department of Defense, National Science Foundation, National Ocean Service, and the Western Pacific Regional Fishery Management Council. The non-voting representatives and their alternates are chosen by the agencies and other entities which they represent on the Council. The charter for the Council can be found in the application kit, or on the web site listed above.

Selections to the Council will be made based upon candidates' particular expertise and experience in relation to the seat for which they are applying; community and professional affiliations; and philosophy regarding the conservation and management of marine resources. Persons who are interested in applying for membership on the Council may obtain an application from either the person or website identified above. Completed applications must be sent to the address listed above and must be received by July 16, 2001.

Authority: 16 U.S.C. Section 1431 et seq.; Pub. L. 106-513.

(Federal Domestic Assistance Catalog Number 11.429 Marine Sanctuary Program)

Dated: June 11, 2001.
Ted I. Lillestolen,
Deputy Assistant Administrator for Oceans and Coastal Zone Management.

[FR Doc. 01-15103 Filed 6-14-01; 8:45 am]

BILLING CODE 3510-08-M